ENVIRONMENTAL PROTECTION AGENCY

[FRL-7865-6]

Science Advisory Board Staff Office; Notification of Upcoming Science Advisory Board Meeting

AGENCY: Environmental Protection Agency (EPA).

ACTION: Notice.

SUMMARY: The EPA Science Advisory Board (SAB) Staff Office announces a public meeting of the EPA Science Advisory Board (the Board) to discuss the EPA science and research programs and budget, and to conduct other Board activities.

ADDRESSES: The meeting of the Science Advisory Board will be held in the Polaris Room of the Ronald Reagan Building, 1200 Pennsylvania Avenue, NW., Washington, DC 20004.

DATES: February 17-18, 2005. A public meeting of the Board will be held from 8:30 a.m. to 5:30 p.m. on February 17 and 18, 2005 (eastern time).

FOR FURTHER INFORMATION CONTACT: Members of the public who wish to obtain further information regarding the SAB may contact Mr. Thomas O. Miller, Designated Federal Officer (DFO), U.S. EPA Science Advisory Board Staff Office (1400F), 1200 Pennsylvania Avenue, NW., Washington, DC 20460; by telephone/voice mail at (202) 343-9982; or via e-mail at miller.tom@epa.gov. The SAB Mailing address is: U.S. EPA, Science Advisory Board (1400F), 1200 Pennsylvania Ave., NW., Washington, DC 20460. General information about the SAB, as well as any updates concerning the meeting announced in this notice, may be found in the SAB Web site at: http://www.epa.gov/sab.

SUPPLEMENTARY INFORMATION: Background: The Science Advisory Board (SAB) was established by 42 U.S.C. 4365 to provide independent scientific and technical advice, consultation, and recommendations to the EPA Administrator on the technical basis for Agency positions and regulations. At this meeting, the SAB will focus on EPA's science and research programs included within the FY 2006 budget proposal. Evaluating and advising the EPA Administrator on the Agency science and research program budget is an annual activity of the Science Advisory Board. At this meeting, the SAB may also conduct a review of one or more draft committee or panel reports that are being sent to it for approval prior to delivery to the U.S. EPA Administrator. Any such reviews will be announced on the above mentioned SAB Web site at least one week prior to the meeting.

For the Science and Research Advisory, the SAB will receive briefings by representatives from various EPA organizations on the science and research programs that are to be conducted under the FY 2006 EPA budget request; members and EPA representatives will discuss how these programs relate to and move forward from existing programs; and the members will then deliberate on the advice they will provide to the Administrator. The final agreed upon Charge to the Board will be placed onto the SAB Web site prior to this meeting.

Availability of Review Material for the Board Meeting: Documents that are the subject of this meeting are available from the SAB Staff Office Web site http://www.epa.gov/sab/.

Procedures for Providing Public Comment: It is the policy of the EPA Science Advisory Board (SAB) Staff Office to accept written public comments of any length, and to accommodate oral public comments whenever possible. The EPA SAB Staff Office expects that public statements presented at Board meetings will not be repetitive of previously submitted oral or written statements.

Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing via e-mail at least one week prior to the meeting in order to be placed on the public speaker list for the meeting. Speakers should bring at least 35 copies of their comments and presentation slides for distribution to the participants and public at the meeting.

Written Comments: Although written comments are accepted until the date of the meeting (unless otherwise stated), written comments should be received in the SAB Staff Office at least one week prior to the meeting date so that the comments may be made available to the committee for their consideration. Comments should be supplied to the appropriate DFO at the address/contact information above in the following formats: one hard copy with original signature, and one electronic copy via e-mail (acceptable file format: Adobe Acrobat, WordPerfect, Word, or Rich Text files (in IBM-PC/Windows 98/2000/XP format). Those providing written comments and who attend the meeting are also asked to bring 35 copies of their comments for public distribution.

Meeting Accommodations: Individuals requiring special accommodation to access these meetings, should contact the relevant DFO at least five business days prior to the meeting so that appropriate arrangements can be made.

Dated: January 24, 2005.
Vanessa T. Vu,
Director, EPA Science Advisory Board Staff Office.

[FR Doc. 05-1718 Filed 1-28-05; 8:45 am]

BILLING CODE 6560-50-P